DEPARTMENT OF DEFENSE

Office of the Secretary

[Transmittal Nos. 12-38]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-38 with attached transmittal, and policy justification.

Dated: August 10, 2012.
Aaron Siegel,
Alternate OSD Federal Register Liaison Officer, Department of Defense.

BILLING CODE 5001-06-P

BILLING CODE 5001-06-C

Transmittal No. 12-38

Notice of Proposed Issuance of Letter of Offer Pursuant to Section 36(b)(1) of the Arms Export Control Act, as amended

(i) Prospective Purchaser: United Arab Emirates (UAE)

(ii) Total Estimated Value:

Major Defense Equipment* | $35 million
Other | $0 million
Total | $35 million

(iii) Description and Quantity or Quantities of Articles or Services under Consideration for Purchase: 2 spare F117-PW-100 engines in support of the UAE C-17 GLOBEMASTER III aircraft.

(iv) Military Department: Air Force (QAC Amendment 2)

(v) Prior Related Cases, if any: FMS case QAC-$285M-20Jan11

(vi) Sales Commission, Fee, etc., Paid, Offered, or Agreed to be Paid: None

(vii) Sensitivity of Technology Contained in the Defense Article or Defense Services Proposed to be Sold: None

(viii) Date Report Delivered to Congress: 31 July 2012

* as defined in Section 47(6) of the Arms Export Control Act.

POLICY JUSTIFICATION

United Arab Emirates—F117-PW-100 Engines

The Government of the United Arab Emirates (UAE) has requested a proposed sale of 2 spare F117-PW-100 engines in support of the UAE C-17 GLOBEMASTER III aircraft. The estimated cost is $35 million.

The proposed sale will contribute to the foreign policy and national security of the United States by helping to improve the security of a friendly country that has been, and continues to be, an important force for political stability and economic progress in the Middle East.

The proposed sale will improve the UAE's readiness and capability to meet current and future strategic airlift requirements. The UAE will use its C-17s to provide humanitarian aid in the Middle East and Africa region and to support its troops in coalition operations. The C-17 will provide a heavy airlift capability and complement day-to-day operations of the UAE's existing C-130H fleet.

The proposed sale of this equipment and support will not alter the basic military balance in the region.

The prime contractor will be Pratt and Whitney in East Hartford, Connecticut. There are no known offset agreements proposed in connection with this potential sale.

Implementation of this proposed sale will not require the assignment of any additional U.S. Government or contractor representatives to the UAE.

There will be no adverse impact on U.S. defense readiness as a result of this proposed sale.

[FR Doc. 2012-20163 Filed 8-15-12; 8:45 am]

BILLING CODE 5001-06-P